DEPARTMENT OF COMMERCE

Foreign-Trade Zones Board

[Order No. 1091]

Expansion of Foreign-Trade Zone 163, Poncé, Puerto Rico

Pursuant to its authority under the Foreign-Trade Zones Act of June 18, 1934, as amended (19 U.S.C. 81a-81u), the Foreign-Trade Zones Board (the Board) adopts the following Order:

Whereas, Codezol, C.D., grantee of Foreign-Trade Zone 163, submitted an application to the Board for authority to expand FTZ 163 to include an additional site (FTZ Docket 14-99; filed 3/29/99, and amended 12/20/99);

Whereas, notice inviting public comment was given in Federal Register (64 FR 18878, 4/16/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 163 is approved, as amended, subject to the Act and the Board's regulations, including Section 400.28.

Signed at Washington, DC, this 18th day of April 2000.
Troy H. Cribb,
Acting Assistant Secretary of Commerce for Import Administration, Alternate Chairman, Foreign-Trade Zones Board.
Attest:
Dennis Puccinelli,
Acting Executive Secretary.

[FR Doc. 00-10540 Filed 4-26-00; 8:45 am]

BILLING CODE 3510-DS-P